DEPARTMENT OF COMMERCE

National Oceanic and Atmospheric Administration

RIN 0648-XE198

Mid-Atlantic Fishery Management Council (MAFMC); Public Meeting

AGENCY: National Marine Fisheries Service (NMFS), National Oceanic and Atmospheric Administration (NOAA), Commerce.

ACTION: Notice of a public meeting.

SUMMARY: The Mid-Atlantic Fishery Management Council (Council) will hold a three-day meeting to consider actions affecting Mid-Atlantic fisheries in the exclusive economic zone (EEZ).

DATES: The meeting will be held on Tuesday, Wednesday, and Thursday, October 6-8, 2015, starting at 9 a.m. on Tuesday, 8 a.m. on Wednesday, and 9 a.m. on Thursday.

ADDRESSES: The meeting will be held at the DoubleTree Philadelphia Center City, 237 S. Broad Street, Philadelphia, PA 19107; telephone: (215) 893-1600.

Council address: Mid-Atlantic Fishery Management Council, 800 N. State Street, Suite 201, Dover, DE 19901; telephone: (302) 674-2331 or on their Web site at www.mafmc.org.

FOR FURTHER INFORMATION CONTACT: Christopher M. Moore, Ph.D., Executive Director, Mid-Atlantic Fishery Management Council, telephone: (302) 526-5255.

SUPPLEMENTARY INFORMATION:

Agenda

Tuesday, October 6, 2015

The Council will hold a Habitat Workshop on Tuesday to discuss potential strategies to more fully integrate habitat into the Ecosystem Approach to Fisheries Management process.

During the afternoon session, the Council will continue with the Habitat Workshop. The Blueline Tilefish Amendment will be discussed to approve a range of alternatives. The Council will review the Scientific and Statistical Committee's (SSC) Acceptable Biological Catch (ABC) recommendations, as well as the Monitoring Committee and Advisory Panel recommendations and recommend 2016-18 Spiny Dogfish Specifications and associated management measures. The Council will then receive an update on recent activities from the Bureau of Ocean Energy Management.

Wednesday, October 7, 2015

The Executive Committee will meet to review the 2015 Implementation Plan and to discuss and review the 2016 Implementation Plan. The Council will then review and approve the 2016-20 Five-Year Comprehensive Research Priority Plan. The Council will also identify research priorities for near-term cooperative research projects for the Council Cooperative Research Plan.

During the afternoon session, the Council will review the SSC report regarding data limited methods for recommending black sea bass ABC and revise the 2016-17 black sea bass catch limit recommendations, if appropriate. The New England Fishery Management Council's Framework for Surfclams and Ocean Quahogs, which includes clam dredge exemption areas on Georges Bank and Nantucket shoals areas, will be presented. The Council will then receive a summary of scoping comments and identify the next steps regarding Unmanaged Forage followed by an update on the progress for the summer flounder sex-specific model.

Thursday, October 8, 2015

The Council will identify preferred alternatives for public hearings for the Industry Funded Observer Amendment followed by a review of the NOAA Draft Policy Statement on Ecosystem Based Fishery Management. The day will conclude with brief reports from the National Marine Fisheries Service's Greater Atlantic Regional Office and the Northeast Fisheries Science Center, NOAA's Office of General Counsel and Office of Law Enforcement, the U.S. Coast Guard, the Atlantic States Marine Fisheries Commission, the New England and South Atlantic Fishery Council's liaisons, and the Council's Executive Director. The Council will also receive a Science Report, Executive and SSC Committee reports and discuss any continuing and/or new business.

Although other non-emergency issues not contained in this agenda may come before this Council for discussion, those issues may not be the subjects of formal action during this meeting. Council action will be restricted to those issues specifically listed in this notice and any issues arising after publication of this notice that require emergency action under section 305(c) of the Magnuson-Stevens act, provided that the public has been notified of the Council's intent to take final action to address the emergency.

Special Accommodations

This meeting is physically accessible to people with disabilities. Requests for sign language interpretation or other auxiliary aids should be directed toM. Jan Saunders, (302) 526-5251, at least 5 days prior to the meeting date.

Dated: September 16, 2015.
Jeffrey N. Lonergan,
Acting Deputy Director, Office of Sustainable Fisheries, National Marine Fisheries Service.

[FR Doc. 2015-23625 Filed 9-18-15; 8:45 am]

BILLING CODE 3510-22-P